DEPARTMENT OF HEALTH AND HUMAN SERVICES

Administration for Community Living; Notice of Intent To Award a Sole Source Supplement to the Christopher and Dana Reeve Foundation

AGENCY: Administration for Community Living, HHS.

ACTION: Notice of intent to award a sole source supplement to the Christopher and Dana Reeve Foundation.

SUMMARY: The Administration for Community Living (ACL) is announcing the award of single-source supplement for the National Paralysis Resource Center (PRC) that was included in the 2019 Congressional budget appropriations. The National Paralysis Resource Center is operated by the Christopher and Dana Reeve Foundation, which offers important programmatic opportunities for persons with disabilities and older adults. The PRC provides comprehensive information for people living with spinal cord injury, paralysis, and mobility-related disabilities and their families. Resources include information and referral by phone and email in multiple languages; a peer and family support mentoring program; a military and veterans program; multicultural outreach services; multiple quality of life grants; and a national website. The administrative supplement for FY2019 will be in the amount of $1,000,000, bring the total award for FY 19 to $7,761,661.

Program Name: National Paralysis Resource Center.

Recipient: Christopher and Dana Reeve Foundation.

Period of Performance: The supplement award will be issued for the second year of a three year project a project period, July 1, 2019 through June 30, 2020.

Award Amount: $1,000,000.

Award Type: Cooperative Agreement.

Statutory Authority: This program is authorized under Section 317 of the Public Health Service Act (42 U.S.C. 247(b-4)); Consolidated and Further Continuing Appropriations Act, 2016, Public Law 114-113 (Dec. 18, 2015).

CFDA Number: 93.325 Discretionary Projects.

SUPPLEMENTARY INFORMATION: The purpose of the supplemental funding is to support the expansion the National Paralysis Resource Center to improve the health and quality of life of individuals living with paralysis and their families by raising awareness of and facilitating access to a broad range of services relevant to individuals with paralysis. With the additional funding, the PRC will work to expand the National Resource and Information Center; increase the health and quality of life of Americans with disabilities living with paralysis; increase support and resources to people with paralysis, their families and caregivers; expand collaboration with federal agencies and other national organizations that have a vested interested in the paralysis community; and strengthen performance measures.

Dated: April 24, 2019.
Mary Lazare,
Principal Deputy Administrator.

[FR Doc. 2019-08635 Filed 4-29-19; 8:45 am]

BILLING CODE 4154-01-P